DEPARTMENT OF THE INTERIOR

Fish and Wildlife Service

[FWS-R4-R-2010-N085; 40136-1265-0000-S3]

Holla Bend National Wildlife Refuge, Pope and Yell Counties, AR

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for Holla Bend National Wildlife Refuge (NWR). In the final CCP, we describe how we will manage this refuge for the next 15 years.

ADDRESSES: You may obtain a copy of the CCP by writing to: Mr. Durwin Carter, Refuge Manager, Holla Bend NWR, 10448 Holla Bend Road, Dardanelle, AR 72834. The CCP may also be accessed and downloaded from the Service's Web site: http://southeast.fws.gov/planning under “Final Documents.”

FOR FURTHER INFORMATION CONTACT: Mr. Mike Dawson, Refuge Planner, Jackson, MS; telephone: 601/965-4903, Ext. 20; fax: 601/965-4010; e-mail: mike_dawson@fws.gov.

SUPPLEMENTARY INFORMATION:

Introduction

With this notice, we finalize the CCP process for Holla Bend NWR. We started this process through a notice in the Federal Register on May 17, 2007 (72 FR 27837).

Holla Bend NWR is about 6 miles southeast of the city of Dardanelle in west-central Arkansas. The refuge is situated on a meander in the Arkansas River (i.e., Holla Bend) that was cut off when the U.S. Army Corps of Engineers (Corps) straightened the channel in 1954. When the work was completed, the Corps transferred the 4,068-acre Holla Bend cutoff site to the Service and Holla Bend NWR was formally established in 1957. We have acquired additional lands in the intervening years, and the fee title boundary presently includes 6,616 acres. We also manage 441 acres of a Migratory Bird Closure Zone outside of the fee title boundary, bringing the total managed area to 7,057 acres. The boundaries of the refuge are roughly defined by the main channel of the Arkansas River and the cutoff meander channel.

The principal focus of the refuge is on providing a wintering area for ducks and geese that use the Arkansas River corridor as they migrate along the Mississippi and Central Flyways. The number of waterfowl on the refuge in any given year varies, depending on water levels and weather conditions further along the flyways. However, it is not uncommon for the refuge to host up to 100,000 ducks and geese at once during the winter months. Mallards are the most abundant, but at least 18 species of ducks and 4 species of geese have been observed on the refuge.

More than 40,000 people visited the refuge in 2009. Almost half of these visitors came to the refuge to watch wildlife; bald eagles are an important draw. The refuge also provides opportunities for wildlife observation, wildlife photography, and environmental education and interpretation. There are opportunities for hunting and fishing as well, although these activities are limited to ensure that they are compatible with refuge purposes.

We announce our decision and the availability of the final CCP and FONSI for Holla Bend NWR in accordance with the National Environmental Policy Act (NEPA) [40 CFR 1506.6(b)] requirements. We completed a thorough analysis of impacts on the human environment, which we included in the draft comprehensive conservation plan and environmental assessment (Draft CCP/EA). The CCP will guide us in managing and administering Holla Bend NWR for the next 15 years. Alternative D is the foundation for the CCP.

The compatibility determinations for hunting, fishing, wildlife observation and photography, environmental education and interpretation, all-terrain vehicle use, cooperative farming, commercial fishing, haying, research studies, and trapping are available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 100 copies of the Draft CCP/EA were made available for a 30-day public review period as announced in the Federal Register on January 8, 2010 (75 FR 1073). Five public comments were received. The Draft CCP/EA identified and evaluated four alternatives for managing the refuge.

Selected Alternative

After considering the comments we received, we have selected Alternative D for implementation. This alternative is judged to be the most effective management action for meeting the purposes of the refuge by optimizing habitat management and visitor services.

Refuge operations will be improved by balancing enhanced habitat and fish and wildlife population management and enhanced wildlife-dependent public use. This adaptive management alternative is basically concurrent implementation of selected enhancements from alternatives B (Enhanced Management of Habitat and Fish and Wildlife Populations) and C (Enhanced Management for Wildlife-Dependent Public Use), focusing on specific enhancements for which inherent linkages will result in greater benefits to the refuge and surrounding area than simple addition of the benefits of each enhancement implemented separately. For example, the baseline biological information developed under Alternative B will be useful in identifying opportunities to improve visitor experiences, and the increased volunteer support management developed under Alternative C will lead to increased efficiencies in collecting data on biological resources and responses (e.g., nuisance and invasive species occurrence, deer herd status, and evaluation of habitat management efforts) identified in Alternative B.

Habitat management will include converting 100 acres from agricultural production to grassland and scrub/shrub habitat; cooperative farming will continue on 1,200 acres. To the extent possible, crops will be converted to preferred waterfowl foods. We will monitor acreage of invasive plants and develop a strategy to eliminate non-native plants. Enhancements in the management of moist-soil habitat will include developing complete water control capability on all moist-soil unit acreage and use of periodic disturbance to set back succession. Further, we will pursue cooperative projects to improve habitat quality on 500 acres of open water. Waterfowl usage and shorebird response to habitat management also will be monitored.

Wildlife-dependent recreation activities will be the same as under Alternative A (Current Management).

The two significant enhancements in the public use program will be development of an environmental education center and the addition of a park ranger (visitor services) position. These enhancements will greatly increase our capability and opportunity to conduct environmental education and interpretation programs, and to better utilize qualified volunteers in support of Holla Bend NWR's mission and objectives. One function of the park ranger will be to develop a plan for recruiting and effectively managing volunteer support.

This alternative also will include the addition of an ADA-compliant fishing pier at Lodge Lake's bank fishing area, development of a bird observation trail north of the refuge office, improvements to the Lodge Lake Trail and the loop to the Levee Trail, and selective vegetation management along refuge roads to improve wildlife viewing opportunities. Information kiosks, directional signs, parking lots, and other visitor use facilities also will be improved to the extent feasible. This will include determining the maximum number of archery hunters we can support and evaluating the feasibility of adding a dove hunt season.

Under this alternative, we will pursue opportunities that arise to purchase or exchange priority tracts within the refuge acquisition boundary, which includes 1,703 acres in private ownership distributed in numerous small tracts around the perimeter of the refuge. We will maintain the refuge as resources allow.

The staff will be made up of the following: refuge manager, deputy refuge manager, heavy equipment operator, office assistant, biologist, biological science technician, park ranger (public use), park ranger (law enforcement), refuge operations specialist, and heavy equipment mechanic.

Authority

This notice is published under the authority of the National Wildlife Refuge System Improvement Act of 1997, Public Law 105-57.

Dated: April 22, 2010.
Mark J. Musaus,
Acting Regional Director.

[FR Doc. 2010-15434 Filed 6-24-10; 8:45 am]

BILLING CODE 4310-55-P